DEPARTMENT OF ENERGY

Federal Energy Regulatory Commission

Notice of Effectiveness of Exempt Wholesale Generator and Foreign Utility Company Status

| Docket Nos.
Moss Landing Energy Storage 3, LLC | EG23-29-000
Chesapeake Solar Project, LLC | EG23-30-000
East Point Energy Center, LLC | EG23-31-000
Diversion Wind Energy Holdings LLC | EG23-32-000
Wagon Wheel Wind Project Holdings LLC | EG23-33-000
Wagon Wheel Wind Project, LLC | EG23-34-000
Diversion Wind Energy LLC | EG23-35-000
Paris Farm Solar, LLC | EG23-36-000
Waco Solar, LLC | EG23-37-000
Rodeo Ranch Energy Storage, LLC | EG23-38-000
Hecate Energy Albany 2 LLC | EG23-39-000
Hecate Energy Albany 1 LLC | EG23-40-000
GRP TE Lessee, LLC | EG23-41-000
Kapolei Energy Storage I, LLC | EG23-42-000
Remy Jade Generating, LLC | EG23-43-000
PGR 2022 Lessee 2, LLC | EG23-44-000
Cathcart Solar, LLC | EG23-45-000
Fresh Air Energy XXXVII, LLC | EG23-46-000
Thigpen Farms Solar, LLC | EG23-47-000
Fresh Air Energy XXIII, LLC | EG23-48-000
Diablo Winds, LLC | EG23-49-000
Carson Hybrid Energy Center LLC | EG23-50-000
Enery Holdings LLC | EG23-51-000
Gambit Energy Storage LLC | EG23-52-000
Parc du Banc de Guérande SAS | FC23-2-000

Take notice that during the month of February 2023, the status of the above-captioned entities as Exempt Wholesale Generators or Foreign Utility Companies became effective by operation of the Commission's regulations. 18 CFR 366.7(a) (2021).

Dated: March 3, 2023.
Debbie-Anne A. Reese,
Deputy Secretary.

[FR Doc. 2023-04857 Filed 3-8-23; 8:45 am]

BILLING CODE 6717-01-P